DEPARTMENT OF DEFENSE

Office of the Secretary

Defense Science Board

ACTION: Cancellation of Advisory Committee Meeting.

SUMMARY: The Defense Science Board Task Force on Options for Acquisition of the Advanced Targeting Pod and Advanced Technology FLIR Pod (ATP/ATFLIR) meeting scheduled for January 26, 2001, was not held.

Dated: February 2, 2001.
Patricia L. Toppings,
Alternate OSD Federal Register Liaison Officer, Department of Defense.

[FR Doc. 01-3727 Filed 2-13-01; 8:45 am]

BILLING CODE 5001-10-M